FEDERAL COMMUNICATIONS COMMISSION

[OMB 3060-0848, FRS 17302]

Information Collection Being Submitted for Review and Approval to Office of Management and Budget

Correction

In notice document 2020-28021 appearing on pages 83081-83082 in the issue of Monday, December 21, 2020, make the following correction:

On page 83081, in the third column, in the DATES section, change “January 20, 2021” to read “January 21, 2021.”

[FR Doc. C1-2020-28021 Filed 1-12-21; 8:45 am]

BILLING CODE 1301-00-D